DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with November anniversary dates. In accordance with the Department's regulations, we are initiating those administrative reviews. The Department also received a request to revoke one antidumping duty order in part.

DATES: Effective Date: December 23, 2009.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with November anniversary dates. The Department also received a timely request to revoke in part the antidumping duty order on Fresh Garlic from the People's Republic of China with respect to one exporter.

Notice of No Sales

Under 19 CFR 351.213(d)(3), the Department may rescind a review where there are no exports, sales, or entries of subject merchandise during the respective period of review (“POR”) listed below. If a producer or exporter named in this notice of initiation had no exports, sales, or entries during the POR, it should notify the Department within 30 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently complete segment of the proceeding in which they participated.

² Only changes to the official company name, rather than trade names, need to be addressed via a Separate Rate Application. Information regarding new trade names may be submitted via a Separate Rate Application.

For exporters and producers who submit a separate-rate status application or certification and subsequently are selected as mandatory respondents, these exporters and producers will no longer be eligible for separate-rate status unless they respond to all parts of the questionnaire as mandatory respondents.

Initiation of Reviews

In accordance with section 19 CFR 351.221(c)(1)(i), we are initiating administrative reviews of the following antidumping and countervailing duty orders and findings. We intend to issue the final results of these reviews not later than November 30, 2010.

Antidumping duty proceedings | Period to be reviewed
Brazil: Polyethylene Terephthalate Film, Sheet, and Strip, A-351-841 | 11/6/08-10/31/09
Terphane Inc.
Germany: Lightweight Thermal Paper, A-428-840 | 11/20/08-10/31/09
Papierfabrik August Koehler AG
Mitsubishi HiTec Paper Flensburg GmbH, Mitsubishi HiTec Paper Bielefeld GmbH, and Mitsubishi International Corp.
Mexico: Circular Welded Non-Alloy Steel Pipe and Tube, A-201-805 | 11/1/08-10/31/09
Mueller Comercial de Mexico, S. de R.L. de C.V.
Tuberia Nacional, S.A. de C.V.
Ternium Mexico, S.A. de C.V., and its affiliates, Hylsa, S.A. de C.V., Ternium Grupo IMSA SAB de C.V., and Galvak S.A. de C.V.
Republic of Korea: Certain Circular Welded Non-Alloy Steel Pipe, A-580-809 | 11/1/08-10/31/09
SeAH Steel Corporation
Hyundai HYSCO
Husteel Co., Ltd.
Nexteel Co., Ltd.
Kumkang Industrial Co., Ltd.
A-JU Besteel Co., Ltd.
The People's Republic of China: Certain Cut-to-Length Carbon Steel Plate,³ A-570-849 | 11/1/08-10/31/09
Hunan Valin Xiangtan Iron & Steel Co., Ltd.
The People's Republic of China: Fresh Garlic,⁴ A-570-831 | 11/1/08-10/31/09
American Pioneer Shipping
Anhui Dongqian Foods Ltd
Anqiu Friend Food Co., Ltd.
Anqiu Haoshun Trade Co., Ltd.
APS Qingdao
Chengwu County Yuanxiang Industry & Commerce Co., Ltd.
Chiping Shengkang Foodstuff Co., Ltd.
Hangzhou Guanyu Foods Co., Ltd.
Hebei Golden Bird Trading Co., Ltd.
Henan Weite Industrial Co., Ltd.
Heze Ever-Best International Trade Co., Ltd. (f/k/a Shandong Heze | 11/1/08-10/31/09
International Trade and Developing Company)
Hongqiao International Logistics Co.
IT Logistics Qingdao Branch
Jinan Solar Summit International Co., Ltd.
Jinan Farmlady Trading Co., Ltd.
Jinan Yipin Corporation Ltd.
Jining Highton Trading Co., Ltd.
Jining Juilong International Trading Co., Ltd.
Jining Tiankuang Trade Co., Ltd.
Jining Yongjia Trade Co., Ltd.
Jinxian County Huaguang Food Import & Export Co., Ltd.
Jinxiang Dacheng Food Co., Ltd.
Jinxiang Dongyun Freezing Storage Co., Ltd. (a/k/a Jinxiang Eastward
Shipping Import and Export Limited Company)
Jinxiang Fengsheng Import & Export co., Ltd.
Jinxiang Hejia Co., Ltd.
Jinxiang Jinma Fruits Vegetables Products Co., Ltd.
Jinxiang Shanyang Freezing Storage Co., Ltd.
Jinxiang Tianheng Trade Co., Ltd.
Jinxiang Tianma Freezing Storage Co., Ltd.
Juye Homestead Fruits and Vegetables Co., Ltd.
Kingwin Industrial Co., Ltd.
Laiwu Fukai Foodstuff Co., Ltd.
Laizhou Xubin Fruits and Vegetables
Linshu Dading Private Agricultural Products Co., Ltd.
Linyi City Heding District Jiuli Foodstuff Co.
Ningjin Ruifeng Foodstuff Co., Ltd.
Qingdao Apex Shipping Co., Ltd.
Qingdao Lianghe International Trade Co., Ltd.
Qingdao Saturn International Trade Co., Ltd.
Qingdao Sea-Line International Trading Co., Ltd.
Qingdao Sino-World International Trading Co., Ltd.
Qingdao Tiantaixing Foods Co., Ltd.
Qingdao Winner Foods Co., Ltd.
Qingdao Xintianfeng Foods, Co., Ltd.
Qingdao Yuankang International
Qufu Dongbao Import & Export Trade Co., Ltd.
Rizhao Huasai Foodstuff Co., Ltd.
Samyoung America (Shanghai) Inc.
Shandong Chengshun Farm Produce Trading Co., Ltd.
Shandong Chenhe Int'l Trading Co., Ltd.
Shandong China Bridge Imports
Shandong Dongsheng Eastsun Foods Co., Ltd.
Shandong Garlic Company
Shandong Jinxiang Zhengyang Import & Export Co., Ltd.
Shandong Longtai Fruits and Vegetables Co., Ltd.
Shandong Sanxing Food Co., Ltd.
Shandong Wonderland Organic Food Co., Ltd.
Shandong Xingda Foodstuffs Group Co., Ltd.
Shandong Yipin Agro (Group) Co., Ltd.
Shanghai Ever Rich Trade Company
Shanghai Goldenbridge International Co., Ltd.
Shanghai Great Harvest International Co., Ltd.
Shanghai LJ International Trading Co., Ltd.
Shenzhen Fanhui Import & Export Co., Ltd.
Shenzhen Greening Trading Co., Ltd.
Shenzhen Xinboda Industrial Co., Ltd.
T&S International, LLC
Taian Eastsun Foods Co., Ltd.
Taian Fook Huat Tong Kee Pte. Ltd.
Taian Solar Summmit Food Co., Ltd.
Taiyan Ziyang Food Co., Ltd.
V.T. Impex (Shandong) Limited
Weifang Chenglong Import & Export Co., Ltd.
Weifang Hongqiao International Logistics Co., Ltd.
Weifang Naike Foodstuffs Co., Ltd.
Weifang Shennong Foodstuff Co., Ltd.
WSSF Corporation (Weifang)
Xiamen Huamin Import Export Company
Xiamen Keep Top Imp. and Exp. Co., Ltd.
XuZhou Simple Garlic Industry Co., Ltd.
You Shi Li International Trading Co., Ltd.
Zhangzhou Xiangcheng Rainbow Greenland Food Co., Ltd. | 11/1/08-10/31/09
Zhengzhou Harmoni Spice Co., Ltd.
Zhengzhou Yuanli Trading Co., Ltd.
The People's Republic of China: Lightweight Thermal Paper,⁵ A-570-920 | 11/20/08-10/31/09
Guangdong Guanhao High-Tech Co., Ltd.
Shanghai Hanhong Paper Co., Ltd. and
Hanhong International Limited
The People's Republic of China: Polyethylene Terephthalate Film, Sheet, and Strip,⁶ A-570-924 | 11/6/08-10/31/09
Fuwei Films (Shandong) Co., Ltd.
Shaoxing Xiangyu Green Packing Co., Ltd.
Tianjin Wanhua Co., Ltd.
Sichuan Dongfang Insulating Material Co., Ltd.
Shanghai Xishu Electric Material Co., Ltd.
Shanghai Uchem Co., Ltd.
United Arab Emirates: Polyethylene Terephthalate Film, Sheet, and Strip, A-520-803 | 11/6/08-10/31/09
Flex Middle East FZE
JBF RAK LLC
Countervailing Duty Proceedings
The People's Republic of China: Lightweight Thermal Paper, C-570-921 | 11/20/08-12/31/08
Guangdong Guanhao High-Tech Co., Ltd.

Suspension Agreements

None.

³ If the above-named company does not qualify for a separate rate, all other exporters of certain cut-to-length carbon steel plate from the People's Republic of China (“PRC”) who have not qualified for a separate rate are deemed to be covered by this review as part of the single PRC entity of which the named exporters are a part.

⁴ If one of the above-named companies does not qualify for a separate rate, all other exporters of fresh garlic from the PRC who have not qualified for a separate rate are deemed to be covered by this review as part of the single PRC entity of which the named exporters are a part.

⁵ If one of the above-named companies does not qualify for a separate rate, all other exporters of lightweight thermal paper from the PRC who have not qualified for a separate rate are deemed to be covered by this review as part of the single PRC entity of which the named exporters are a part.

⁶ If one of the above-named companies does not qualify for a separate rate, all other exporters of polyethylene terephthalate film, sheet, and strip from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under APO in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed in 19 CFR 351.101(d)).

These initiations and this notice are in accordance with section 751(a) of the Tariff Act of 1930, as amended (19 U.S.C. 1675(a)), and 19 CFR 351.221(c)(1)(i).

Dated: December 17, 2009.
John M. Andersen,
Acting Deputy Assistant Secretary for Antidumping and Countervailing Duty Operations.

[FR Doc. E9-30529 Filed 12-22-09; 8:45 am]

BILLING CODE 3510-DS-P